DEPARTMENT OF THE INTERIOR

Bureau of Reclamation

Information Collection Activities Under OMB Review

AGENCY: Bureau of Reclamation, Interior.

ACTION: Notice of data collection submission.

SUMMARY: In compliance with the Paperwork Reduction Act (44 U.S.C. 3501 et seq.), this notice announces that the Information Collection Request (ICR), Recreation Use Data Report, OMB No. 1006-0002, abstracted below has been forwarded to the Office of Management and Budget (OMB) for review and comment. The ICR describes the nature of the information collection and its expected cost and burden.

DATES: Comments must be submitted on or before May 15, 2003.

ADDRESSES: Comments on this information collection should be submitted to the Office of Information and Regulatory Affairs, Office of Management and Budget, Attention: Desk Officer for the Department of the Interior, 725 17th Street, NW., Washington, DC 20503. A copy of your comments should also be directed to the Bureau of Reclamation, Attention: Ms. Mollie Buckey, Office of Policy, 1849 C Street, NW., Washington, DC 20240.

FOR FURTHER INFORMATION CONTACT: For further information or a copy of the proposed collection of information, contact Ms. Mollie Buckey at (202) 513-0600.

SUPPLEMENTARY INFORMATION: Comments are invited on: (a) Whether the proposed collection of information is necessary for the proper performance of the functions of Reclamation, including whether the information shall have practical use; (b) the accuracy of Reclamation's estimated burden of the proposed collection of information; (c) ways to enhance the quality, use, and clarity of the information to be collected; and (d) ways to minimize the burden of the collection of information on those who are to respond, including through the use of automated collection techniques or other forms of information technology.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Title: Recreation Use Data Report.

OMB No.: Reinstatement of OMB No. 1006-0002.

Summary: Reclamation will collect recreation and concession information in support of existing public laws, financial reporting requirements, and Reclamation's mission. The information will further Reclamation's ability to evaluate program and management effectiveness of existing recreation and concessionaire resources and facilities. It will ensure the accuracy and completeness of information about recreation opportunities on Reclamation project lands in the 17 Western States and validate public use of managed recreation resources.

Description of respondents: The information collection primarily affects other Federal agencies, State, local, or tribal governments or agencies who manage Reclamation's recreation resources and facilities; and for-profit concessionaires, subconcessionaires, and nonprofit organizations located on Reclamation lands with associated recreation services.

Frequency: Annually.

Form No. 7-2534, Managing Partners (Including Sites Managed by Reclamation)

Estimated number of respondents: 352.

Frequency of response: Initial response; updated annually if changes are made.

Estimated time for each response: 2 hours.

Total estimated annual reporting burden hours: 704.

Form No. 7-2535, Concessionaires

Estimated number of respondents: 225.

Frequency of response: Initial response; updated annually if changes are made.

Estimated time for each response: 2 hours.

Total estimated annual reporting burden hours: 450.

An Agency may not conduct or sponsor, and a person is not required to respond to, a collection of information unless it displays a currently valid OMB control number. Reclamation will display a valid OMB control number on the forms. The Federal Register notice with a 60-day comment period soliciting comments on this collection of information was published on December 27, 2002 (67 FR 79146). Reclamation did not receive any comments on this collection of information during the comment period.

OMB has up to 60 days to approve or disapprove this information collection, but may respond after 30 days; therefore, public comment should be submitted to OMB within 30 days in order to assure maximum consideration.

Dated: February 21, 2003.
Wayne O. Deason,
Acting Director, Office of Program and Policy Services.

[FR Doc. 03-9136 Filed 4-14-03; 8:45 am]

BILLING CODE 4310-MN-M